ENVIRONMENTAL PROTECTION AGENCY

[FRL-9458-6]

Notification of a Public Teleconference; Clean Air Scientific Advisory Committee; Air Monitoring and Methods Subcommittee

AGENCY: Environmental Protection Agency (EPA).

ACTION: Notice.

SUMMARY: The Environmental Protection Agency (EPA or Agency) Science Advisory Board (SAB) Staff Office announces a public teleconference of the Air Monitoring and Methods Subcommittee (AMMS) of the Clean Air Scientific Advisory Committee (CASAC) to provide advice on EPA's draft Near-Road NO2 Monitoring Technical Assistance Document.

DATES: A public teleconference call will be held on Thursday, September 29, 2011 from 11:30 a.m. to 4:30 p.m. (Eastern Time).

ADDRESSES: The public teleconference will be conducted by telephone only.

FOR FURTHER INFORMATION CONTACT: Any member of the public wishing further information regarding this Notice and public teleconference may contact Mr. Edward Hanlon, Designated Federal Officer (DFO), SAB Staff Office, by telephone/voice mail at (202) 564-2134; by fax at (202) 565-2098 or via e-mail at hanlon.edward@epa.gov. General information concerning the EPA CASAC can be found at the EPA CASAC Web site at http://www.epa.gov/casac. Any inquiry regarding EPA's draft Near-Road NO2 Monitoring Technical Assistance Document should be directed to Mr. Nealson Watkins, EPA Office of Air Quality Planning and Standards (OAQPS) at watkins.nealson@epa.gov or 919-541-5522.

SUPPLEMENTARY INFORMATION: Background: The CASAC was established pursuant to the under the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the AMMS will hold a public teleconference call to provide advice through the chartered CASAC on EPA's draft Near-Road NO2 Monitoring Technical Assistance Document.

In February 2010, EPA promulgated new minimum monitoring requirements for the nitrogen dioxide (NO2) monitoring network in support of a newly revised National Ambient Air Quality Standard (NAAQS) for 1-hour NO2 (75 FR 6474). In the new monitoring requirements, state and local air monitoring agencies are required to install near-road NO2 monitoring stations at locations where peak hourly NO2 concentrations are expected to occur within the near-road environment in larger urban areas. State and local air agencies are required to consider traffic volumes, fleet mix, roadway design, traffic congestion patterns, local terrain or topography, meteorology, population exposure and other factors in determining where a required near-road NO2 monitor should be placed. In August 2010, EPA's Office of Air and Radiation (OAR) requested that CASAC review the initial phase of EPA's Near Road project, and CASAC issued a final report to the EPA Administrator in November 2010 entitled “Review of the ‘Near-road Guidance Document—Outline' and ‘Near-road Monitoring Pilot Study Objectives and Approach'.” OAR considered those recommendations from CASAC and has developed a draft technical document entitled “Near-Road NO2 Monitoring Technical Assistance Document—DRAFT August 11, 2011” to provide state and local air monitoring agencies with recommendations and ideas on how to successfully implement near-road NO2 monitors required by the 2010 revisions to the NO2 minimum monitoring requirements. Since the establishment of near-road NO2 monitoring stations will create an infrastructure that will likely be capable of housing multi-pollutant ambient air monitoring equipment, OAR's draft Technical Assistance Document also discusses other pollutants of interest that exist in the near-road environment, including definitions, basis of interest, and measurement methods. OAR requested CASAC advice on how to improve the near-road NO2 Monitoring draft Technical Assistance Document.

Availability of Meeting Materials: The agenda and materials in support of these teleconference calls will be placed on the EPA CASAC Web site at http://www.epa.gov/casac in advance of the teleconference call.

Procedures for Providing Public Input: Public comment for consideration by EPA's Federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. Input from the public to the CASAC will have the most impact if it provides specific scientific or technical information or analysis for CASAC to consider or if it relates to the clarity or accuracy of the technical information. Members of the public wishing to provide comment on the Subcommittee membership and/or this advisory activity should contact the Designated Federal Officer for the relevant advisory committee directly.

Oral Statements: In general, individuals or groups requesting an oral presentation at this public teleconference will be limited to three minutes per speaker. Interested parties should contact Mr. Edward Hanlon, DFO, in writing (preferably via e-mail), at the contact information noted above, by September 22, 2011 to be placed on the list of public speakers for the teleconference.

Written Statements: Written statements should be received in the SAB Staff Office by September 22, 2011 so that the information may be made available to the Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Edward Hanlon at the phone number or e-mail address noted above, preferably at least ten days prior to the meeting, to give EPA as much time as possible to process your request.

Dated: August 24, 2011.
Vanessa T. Vu,
Director, EPA Science Advisory Board Staff Office.

[FR Doc. 2011-22430 Filed 8-31-11; 8:45 am]

BILLING CODE 6560-50-P